DEPARTMENT OF ENERGY

Federal Energy Regulatory Commission

[Docket Nos. RP00-319-001 and RP00-598-001]

Discovery Gas Transmission LLC; Notice of Compliance Filing

July 18, 2002.

Take notice that on July 15, 2002, Discovery Gas Transmission LLC (Discovery) tendered for filing in its FERC Gas Tariff, Original Volume No. 1, the following pro forma tariffs sheets in compliance with the Commission's Order on Compliance with Order Nos. 637, 587-G and 587-L, issued May 1, 2002:

First Revised Sheet No. 101

Original Sheet No. 136A

Third Revised Sheet No. 146

Third Revised Sheet No. 151

Original Sheet No. 197

Second Revised Sheet No. 130

Second Revised Sheet No. 145

Second Revised Sheet No. 150

Sixth Revised Sheet No. 196

Reserved Sheets Nos. 198-199

Discovery further states that copies of the filing have been mailed to each of its customers, interested State Commissions and other interested persons.

Any person desiring to protest said filing should file a protest with the Federal Energy Regulatory Commission, 888 First Street, NE., Washington, DC 20426, in accordance with Section 385.211 of the Commission's Rules and Regulations. All such protests must be filed on or before July 25, 2002. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-18687 Filed 7-23-02; 8:45 am]

BILLING CODE 6717-01-P